TENNESSEE VALLEY AUTHORITY

Sunshine Act Meeting

Agency Holding the Meeting: Tennessee Valley Authority (Meeting No. 1525).

Time and Date: 9 a.m. (CST), November 15, 2000.

Place: Eupora Community House, 101 East Clark Street, Eupora, Mississippi.

Status: Open.

Agenda

Approval of minutes of meeting held on October 25, 2000.

New Business

A—Budget and Financing

A1. Approval of tax-equivalent payments for Fiscal Year 2000 and the estimated payments in Fiscal Year 2001 in accordance with Section 13 of the TVA Act.

A2. Adoption of Tennessee Valley Authority Financial Statements for Fiscal Year 2000.

A3. Retention of Net Power Proceeds and Nonpower Proceeds and Payments to the U.S. Treasury in March 2001, pursuant to Section 26 of the TVA Act.

B—Purchase Awards

B1. Contracts with Verizon Wireless and Suncom for cellular services.

C—Energy

C1. Contract with Innogy Technology Ventures Limited for the design of a Regenesys® energy storage plant and the manufacture and supply of fuel cell modules.

E—Real Property Transactions

E1. Sale of noncommercial, nonexclusive permanent easement to Carl D. Klimek for construction and maintenance of recreational water-use facilities affecting approximately 0.048 acre of Tellico Reservoir shoreline in Loudon County, Tennessee, Tract No. XTELR-218RE.

E2. Grant of a 30-year term easement to the State of Alabama, Department of Conservation and Natural Resources, for the operation of a wildlife management and public recreation area affecting approximately 1,500 acres of Wheeler Reservoir land in Lawrence and Morgan Counties, Alabama, Tract No. XTWR-114WL.

E3. Modification of a release and grant of easement to James B. and Teresa L. Grant affecting approximately 0.3 acre of former TVA land on Norris Reservoir in Anderson County, Tennessee, a portion of Tract No. XNR-15:33.

E4. Abandonment of a portion of transmission line easement right-of-way affecting approximately 1.5 acres of the Weaver-Young Cane transmission line in Union County, Georgia, Tract No. WYC-52A.

For more information: Please call TVA Public Relations at (865) 632-6000, Knoxville, Tennessee. Information is also available at TVA's Washington Office (202) 898-2999. People who plan to attend the meeting and have special needs should call (865) 632-6000.

Dated: November 8, 2000.
Edward S. Christenbury,
General Counsel and Secretary.

[FR Doc. 00-29261 Filed 11-9-00; 2:28 pm]

BILLING CODE 8120-08-M